DEPARTMENT OF COMMERCE

Foreign-Trade Zones Board

[B-16-2023]

Foreign-Trade Zone (FTZ) 44; Authorization of Production Activity; Givaudan Fragrances Corporation; (Fragrance Compounds); Mount Olive, Flanders and, Towaco, New Jersey

On February 28, 2023, Givaudan Fragrances Corporation submitted a notification of proposed production activity to the FTZ Board for its facility within FTZ 44, in Mount Olive, Flanders and Towaco, New Jersey.

The notification was processed in accordance with the regulations of the FTZ Board (15 CFR part 400), including notice in the Federal Register inviting public comment (88 FR 14328-14329, March 8, 2023). On June 28, 2023, the applicant was notified of the FTZ Board's decision that no further review of the activity is warranted at this time. The production activity described in the notification was authorized, subject to the FTZ Act and the FTZ Board's regulations, including section 400.14.

Dated: June 28, 2023.
Elizabeth Whiteman,
Executive Secretary.

[FR Doc. 2023-14072 Filed 6-30-23; 8:45 am]

BILLING CODE 3510-DS-P